DEPARTMENT OF TRANSPORTATION

Federal Aviation Administration

Notice Before Waiver With Respect to Land at Tri-State Airport, Huntington, West Virginia

AGENCY: Federal Aviation Administration (FAA), DOT.

ACTION: Notice of intent of waiver with respect to land.

SUMMARY: The FAA is publishing notice of proposed release of 0.459 acres of land at the Tri-State Airport, Huntington, West Virginia to the City of Kenova for the installation of a water storage tank. There are no impacts to the Airport and the land is not needed for airport development as shown on the Airport Layout Plan. Fair Market Value of the land will be paid to the Airport sponsor, and used for Airport purposes.

DATES: Comments must be received on or before April 4, 2001.

ADDRESSES: Comments on this application may be mailed or delivered in triplicate to the FAA at the following address: Larry F. Clark, Manager, FAA Beckley Airports Field Office, 176 Airport Circle, Room 101, Beaver, WV 25813.

In addition, one copy of any comments submitted to the FAA must be mailed or delivered to Larry G. Salyers, Airport Director, Tri-State Airport at the following address: Larry G. Salyers, Airport Director, Tri-State Airport, 1449 Airport Road, Huntington, WV 25704.

FOR FURTHER INFORMATION CONTACT: Larry F. Clark, Manager Beckley Airports Field Office, (304) 252-6216, fax (304) 253-8028.

SUPPLEMENTARY INFORMATION: On April 5, 2000, new authorizing legislation became effective. That bill, the Wendell H. Ford Aviation Investment and Reform Act for the 21st Century, Public Law 106-181 (Apr. 5, 2000; 114 Stat. 61) (AIR 21) requires that a 30 day public notice must be provided before the Secretary may waive any condition imposed on an interest in surplus property.

Issued in Beckley, West Virginia on February 2, 2001.
Larry F. Clark,
Manager, Beckley Airports Field Office, Eastern Region.

[FR Doc. 01-5269 Filed 3-2-01; 8:45 am]

BILLING CODE 4910-13-M